INTERNATIONAL TRADE COMMISSION

[Investigation No. 337-TA-915]

Certain Set-Top Boxes, Gateways, Bridges, and Adapters and Components Thereof; Institution of Investigation Pursuant to 19 U.S.C. 1337

AGENCY: U.S. International Trade Commission.

ACTION: Notice.

SUMMARY: Notice is hereby given that a complaint was filed with the U.S. International Trade Commission on April 17, 2014, under section 337 of the Tariff Act of 1930, as amended, 19 U.S.C. 1337, on behalf of ViXS Systems, Inc., of Toronto, Ontario, Canada and ViXS USA, Inc. of Austin, Texas. A supplement to the complaint was filed on April 25, 2014, and an amended complaint was filed on May 6, 2014. The amended complaint alleges violations of section 337 based upon the importation into the United States, the sale for importation, and the sale within the United States after importation of certain set-top boxes, gateways, bridges, and adapters and components thereof by reason of infringement of certain claims of U.S. Patent No. 7,301,900 (“the '900 patent”); U.S. Patent No. 7,099,951 (“the '951 patent”); U.S. Patent No. 7,200,855 (“the '855 patent”); and U.S. Patent No. 7,406,598 (“the '598 patent”). The amended complaint further alleges that an industry in the United States exists as required by subsection (a)(2) of section 337.

The complainants request that the Commission institute an investigation and, after the investigation, issue a limited exclusion order and cease and desist orders.

ADDRESSES: The amended complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2014).

Scope of Investigation: Having considered the amended complaint, the U.S. International Trade Commission, on May 15, 2014, ordered that—

(1) Pursuant to subsection (b) of section 337 of the Tariff Act of 1930, as amended, an investigation be instituted to determine whether there is a violation of subsection (a)(1)(B) of section 337 in the importation into the United States, the sale for importation, or the sale within the United States after importation of certain set-top boxes, gateways, bridges, and adapters and components thereof by reason of infringement of one or more of claims 8, 10-11, 13, 23-24, and 26 of the '900 patent; claims 16 and 21 of the '951 patent; claims 1-12, 14-25, 27-29, 31-33, 35-49, 51-61, and 63 of the '855 patent; and claims 1-2, 4-5, 7-8, and 24 of the '598 patent; and whether an industry in the United States exists as required by subsection (a)(2) of section 337;

(2) Pursuant to Commission Rule 210.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors set forth in 19 U.S.C. 1337(d)(1), (f)(1), (g)(1);

(3) For the purpose of the investigation so instituted, the following are hereby named as parties upon which this notice of investigation shall be served:

(a) The complainants are:

ViXS Systems, Inc., 1210 Sheppard Avenue E., Suite 800, Toronto, Ontario, M2K 1E3, Canada.

ViXS USA, Inc., 115 Wild Basin Road, Suite 115, Austin, TX 78746.

(b) The respondents are the following entities alleged to be in violation of section 337, and are the parties upon which the complaint is to be served:

Entropic Communications, Inc., 6290 Sequence Drive, San Diego, CA 92121.

DirecTV, LLC, 2230 East Imperial Highway, El Segundo, CA 90245.

Wistron NeWeb Corporation, 20 Park Avenue II, Hsinchu Science Park, Hsinchu 308, Taiwan.

CyberTAN Technology, Inc., 99 Park Avenue III, Hsinchu Science Park, Hsinchu 308, Taiwan.

(c) The Office of Unfair Import Investigations, U.S. International Trade Commission, 500 E Street SW., Suite 401, Washington, DC 20436; and

(4) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

Issued: May 16, 2014.
By order of the Commission.
Lisa R. Barton,
Secretary to the Commission.

[FR Doc. 2014-11742 Filed 5-20-14; 8:45 am]

BILLING CODE 7020-02-P